DEPARTMENT OF JUSTICE

Antitrust Division

Notice Pursuant to the National Cooperative Research and Production Act of 1993—Cold Formed Parts and Machine Institute

Notice is hereby given that, on September 16, 2004, pursuant to section 6(a) of the National Cooperative Research and Production Act of 1993, 15 U.S.C. 4301 et seq. (“the Act”), Cold Formed Parts and Machine Institute (“CFPMI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Cold Formed Parts and Machine Institute, Tarrytown, NY. The nature and scope of CFPMI's standards development activities are: development and maintenance of the American National Standard for Rivet Setting Machines. CFPMI is an ANSI accredited Standards Development Organization.

Dorothy B. Fountain,
Deputy Director of Operations, Antitrust Division.

[FR Doc. 04-24570 Filed 11-2-04; 8:45 am]

BILLING CODE 4410-11-M